DEPARTMENT OF ENERGY

Federal Energy Regulatory Commission

[Docket No. CP20-490-000]

Columbia Gulf Transmission, LLC; Notice of Schedule for Environmental Review of the Mainline 300 Replacement Project

On June 30, 2020, Columbia Gulf Transmission, LLC (Columbia Gulf) filed an application in Docket No. CP20-490-000 requesting a Certificate of Public Convenience and Necessity, pursuant to Sections 7(b) and 7(c) of the Natural Gas Act, to abandon, replace, and operate certain natural gas pipeline facilities. The proposed project is known as the Mainline 300 Replacement Project (Project) and consists of the abandonment and replacement of two segments of the 36-inch-diameter Mainline 300 totaling approximately 775 feet. The Project is located in Menifee and Montgomery Counties, Kentucky. Due to increased population density in the area along certain discrete sections of Mainline 300, Columbia Gulf is required, pursuant to Part 192 of the U.S. Department of Transportation regulations to replace segments of its existing Mainline 300 pipeline to meet the Class 3 pipeline design requirements.

On July 9, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 20, 2021

90-day Federal Authorization Decision Deadline—April 20, 2021

If a schedule change becomes necessary, additional notice will be provided so that the relevant agencies are kept informed of the Project's progress.

Project Description

The Project would involve the construction and operation of the following facilities:

• Replacement of approximately 760 feet of existing 36-inch-diameter pipeline, with approximately 760 feet of new, 36-inch-diameter natural gas transmission pipeline from Milepost (MP) 6.8 to MP 6.9; and

• Replacement of approximately 15 feet of existing 36-inch-diameter pipeline, with approximately 15 feet of new, 36-inch-diameter natural gas transmission pipeline from MP 6.9 to MP 6.9.

Background

On July 31, 2020, the Commission issued a Notice of Intent to Prepare an Environmental Assessment for the Proposed Mainline 300 Replacement Project and Request for Comments on Environmental Issues (NOI). The NOI was sent to affected landowners; federal, state, and local government agencies; elected officials; environmental and public interest groups; Native American tribes; other interested parties; and local libraries and newspapers. In response to the NOI, the Commission did not receive any comments.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-490-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 30, 2020.
Kimberly D. Bose,
Secretary.

[FR Doc. 2020-22033 Filed 10-5-20; 8:45 am]

BILLING CODE 6717-01-P